DEPARTMENT OF ENERGY

Federal Energy Regulatory Commission

[Project No. 15291-000]

Premium Energy Holdings, LLC; Notice of Preliminary Permit Application Accepted for Filing and Soliciting Comments, Motions To Intervene, and Competing Applications

On November 4, 2022, Premium Energy Holdings, LLC, filed an application for a preliminary permit, pursuant to section 4(f) of the Federal Power Act (FPA), proposing to study the feasibility of the Pyramid Lake Pumped Storage Project to be located in Washoe County, Nevada, adjacent to Pyramid Lake, approximately 27.5 miles northwest of the city of Nixon. The sole purpose of a preliminary permit is to grant the permit holder priority to file a license application during the permit term. A preliminary permit does not authorize the permit holder to perform any land-disturbing activities or otherwise enter upon lands or waters owned by others without the owners' express permission.

The pumped storage hydropower project includes several alternatives for location of the upper reservoir, final location is dependent on further studies. All alternatives would use Pyramid Lake as the lower reservoir and would require construction of a roller compacted concrete dam to develop an upper reservoir. The reservoir alternatives are discussed below.

The San Emidio Reservoir alternative consists of: (1) a new upper reservoir with a surface area of 180 acres and a storage volume of 21,550 acre-feet at a maximum water-surface elevation of 6,700 feet mean sea level (MSL); (2) a 0.32-mile, 28-foot-wide concrete-lined headrace tunnel; (3) a 0.46-mile, 31-foot-wide concrete-lined tailrace tunnel; (4) five 0.04-mile, 17-foot-wide steel penstocks; (5) a 2.2-mile, 26-foot-wide horizontal concrete-lined tunnel; and (6) a 0.15-mile, 26-foot-wide concrete-lined vertical shaft.

The Tohakum Peak Reservoir alternative consists of: (1) a new upper reservoir with a surface area of 160 acres and a storage volume of 27,050 acre-feet at a maximum water-surface elevation of 5,960 MSL; (2) a 0.25-mile, 32-foot-wide, concrete-lined headrace tunnel; (3) a 0.36-mile, 35-foot-wide, concrete-lined tailrace tunnel; (4) five 0.03-mile, 19-foot-wide steel penstocks; (5) a 1.71-mile, 29-foot-wide concrete-lined horizontal tunnel; and (6) a 0.15-mile, 29-foot-wide concrete-lined vertical shaft.

The Lake Range Reservoir alternative consists of: (1) a new upper reservoir with a surface area of 160 acres and a storage volume of 26,020 acre-feet at a maximum water-surface elevation of 6,180 MSL; (2) a 0.3-mile, 31-foot-wide concrete-lined headrace tunnel; (3) a 0.43-mile, 34-foot-wide concrete-lined tailrace tunnel; (4) five 0.04-mile, 18-foot-wide steel penstocks; (5) a 2.04-mile, 29-foot-wide concrete-lined horizontal tunnel; and (6) a 0.15-mile, 29-foot-wide concrete-lined vertical shaft.

Powerhouse location would depend on the selected upper reservoir alternative. The powerhouse would be between 200 to 300 feet below ground level and constructed with steel and concrete. The structure would be approximately 500-feet-long, 125-feet-wide, and 150-feet-high, containing five pump-turbine motor sets rated at 400 megawatts (MW) each. Adjacent to the powerhouse, the transformers chamber would be constructed and reinforced with shotcrete. The chamber would be approximately 165-feet-long, 60-feet-wide, and 50-feet-high.

The Pyramid Lake Pumped Storage Power Plant would interconnect to the Sylmar transmission line using a new 500 kilovolt (kV) transmission corridor about 16.5 miles long but length would vary depending on the selected upper reservoir alternative. The interconnection between the Pyramid Lake Pumped Storage Project to the Pacific DC Intertie will require a new converter station. From there, the power would be transmitted to a Rebuilt Sylmar Converter Station West. Annual energy production is projected to be approximately 6,900,000 megawatt-hours.

Additionally, the project will be interconnected with proposed photovoltaic solar farms, through a new 500 kV transmission line to the new powerhouse. Two alternatives for the solar farms are proposed. The first alternative is a 14,000-acre, 2,000-MW solar farm on the north slope of Pyramid Lake. The second alternative includes two separate solar farms; a 10,000-acre, 1,428-MW facility on the north slope of Pyramid Lake and a 4,000-acre, 572-MW facility on the southeast tip of the lake.

Applicant Contacts: Mr. Victor M. Rojas, Managing Director, Premium Energy Holdings, LLC, 355 South Lemon Avenue, Suite A, Walnut, CA 91789; email: victor.rojas@pehllc.com; phone: (909) 595-5314.

FERC Contact: Shannon Archuleta; email; shannon.archuleta@ferc.gov; phone (503) 552-2739.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://www.ferc.gov/docs-filing/efiling.asp. Commenters can submit brief comments up to 6,000 characters without prior registration using the eComment system at https://www.ferc.gov/docs-filing/ecomment.asp. You must include your name and contact information at the end of your comments. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15291-000.

More information about this project, including a copy of the application, can be viewed or printed on the “eLibrary” link of the Commission's website at https://www.ferc.gov/docs-filing/elibrary.asp. Enter the docket number (P-15291) in the docket number field to access the document. For assistance, do not hesitate to get in touch with FERC Online Support.

Dated: July 13, 2023.
Debbie-Anne A. Reese,
Deputy Secretary.

[FR Doc. 2023-15314 Filed 7-18-23; 8:45 am]

BILLING CODE 6717-01-P